DEPARTMENT OF AGRICULTURE

Animal and Plant Health Inspection Service

9 CFR Part 94

[Docket No. APHIS-2006-0186]

RIN 0579-AC24

Importation of Uncooked Pork and Pork Products

Correction

In final rule document E8-6800 beginning on page 17881, in the issue of Wednesday, April 2, 2008, make the following correction:

On page 17883 Table 2 is corrected to read as set forth below:

Table 2.—U.S. Global Imports of Fresh or Frozen Pork, 2003-2007
Source | 2003: $Million | 2003: Metric tons | 2004: $Million | 2004: Metric tons | 2005: $Million | 2005: Metric tons | 2006: $Million | 2006: Metric tons | 2007 (Jan-Feb): $Million | 2007 (Jan-Feb): Metric tons
Canada | $644.806 | 349422.6 | $760.886 | 320339.3 | $745.496 | 315136.5 | $681.313 | 288624.2 | $103.11 | 46102.2
Denmark | 156.324 | 45735.7 | 182.794 | 46697.8 | 154.933 | 34477.9 | 141.731 | 35208.8 | 22.65 | 5248.1
Ireland | 9.998 | 2905.7 | 128.38 | 2889.4 | 12.192 | 2590.5 | 8.657 | 1750.9 | 1.627 | 335.2
Finland | 2115 | 822.4 | 6.792 | 2186.3 | 4.797 | 1356.5 | 5.235 | 1292.7 | 0.513 | 95.3
Netherlands | 0 | 0 | 8.511 | 1923.3 | 9.373 | 2249.8 | 10.508 | 2490.2 | 0 | 0
United Kingdom | 4.281 | 1488.7 | 4.184 | 1020.6 | 10.787 | 2186.3 | 7.305 | 1410.7 | 1.608 | 323.9
Mexico¹ | 0.949 | 391.9 | 2.498 | 725.8 | 4.212 | 1038.7 | 5.102 | 1496.6 | 1.201 | 306.6
Sweden | 0.098 | 40.8 | 2.95 | 730.3 | 2.4 | 557.9 | 1.807 | 386 | 0.068 | 23.6
Germany¹ | 9.353 | 137.4 | 0 | 0 | 0.319 | 117.9 | 0.381 | 91.2 | 0 | 0
Australia | 0.038 | 12.3 | 0.05 | 9.1 | 0.056 | 24 | 0 | 0 | 0 | 0
New Zealand | 0.037 | 14.5 | 0 | 0 | 0 | 0 | 0 | 0 | 0 | 0
Chile | 0 | 0 | 0 | 0 | 0 | 0 | 0.723 | 320.2 | 0.468 | 126.1
Iceland | 0 | 0 | 0 | 0 | 0 | 0 | 0.161 | 24 | 0 | 0
Belgium¹ | 0 | 0 | 0 | 0 | 0 | 0 | 0.058 | 23.1 | 0 | 0
China | 0 | 0 | 0 | 0 | 0 | 0 | 0.042 | 18.1 | 0 | 0
World total | 819 | 400972.1 | 928.504 | 373514.5 | 944.565 | 359738.7 | 863.024 | 342257.1 | 131.46 | 52562.8
¹ Mexico contains regions where CSF exists, but also contains regions recognized as CSF-free. Belgium and Germany are part of the APHIS-defined CSF region, a single region of low risk for CSF. Pork, pork products, and swine from this region may be imported into the United States in accordance with the provisions of § 94.24.

[FR Doc. Z8-6800 Filed 4-14-08; 8:45 am]

BILLING CODE 1505-01-D

SECURITIES AND EXCHANGE COMMISSION

17 CFR Parts 230, 232, and 239

[RELEASE NOS. 33-8891; 34-57280; 39-2453; IC-28145; FILE NO. S7-12-07]

RIN 3235-AJ87

Electronic Filing and Revision of Form D

Correction

In rule document E8-3545 beginning on page 10592 in the issue of Wednesday, February 27, 2008, make the following correction:

On page 10609, in the third column, in the first full paragraph, in the second to last line, “Form D” should read “Form ID”.

[FR Doc. Z8-3545 Filed 4-14-08; 8:45 am]

BILLING CODE 1505-01-D

DEPARTMENT OF TRANSPORTATION

Federal Aviation Administration

14 CFR Part 39

[Docket No. FAA-2007-0230; Directorate Identifier 2007-NM-043-AD; Amendment 39-15419; AD 2008-06-07]

RIN 2120-AA64

Airworthiness Directives; Airbus Model A330-200, A330-300, A340-200, and A340-300 Series Airplanes

Correction

§39.13 [Corrected]

In rule document E8-4671 beginning on page 13103 in the issue of Wednesday, March 12, 2008, make the following correction:

On page 13106, in §39.13, in table 3, the heading

“Table 3.—All Material Incorporated by reference”

should read

“Table 3.—New Material Incorporated by reference”

[FR Doc. Z8-4671 Filed 4-14-08; 8:45 am]

BILLING CODE 1505-01-D

DEPARTMENT OF THE TREASURY

Internal Revenue Service

26 CFR Part 1

[REG-168745-03]

RIN 1545-BE18

Guidance Regarding Deduction and Capitalization of Expenditures Related to Tangible Property

Correction

In proposed rule document E8-4466 beginning on page 12838 in the issue of Monday, March 10, 2008, make the following corrections:

§1.263(a)-3 [Corrected]

1. On page 12857, in the second column, in § 1.263(a)-3(d)(2)(iii)(B)(1), in the first line, “(B) Plant property—(1)” should read “(B) Plant property—(1)”.

2. On the same page, in the same column, in § 1.263(a)-3(d)(2)(iii)(B)(2), in the first line, “(2)” should read “(2)”.

[FR Doc. Z8-4466 Filed 4-14-08; 8:45 am]

BILLING CODE 1505-01-D

DEPARTMENT OF THE TREASURY

Internal Revenue Service

26 CFR Part 1

[REG-104946-07]

RIN 1545-BG36

Hybrid Retirement Plans

Correction

In proposed rule document E7-25025 beginning on page 73680 in the issue of Friday, December 28, 2007, make the following corrections:

§1.411(b)(5)-1 [Corrected]

1. On page 73694, in the second column, in the second line, in §1.411(b)(5)-1(c)(4)(v)(A)(1), “(1) General rule.” should read “(1) General rule.”.

2. On page 73699, in §1.411(b)(5)-1(f)(1)(iii)(A)(1), in the first column, in the second line, “(1)” should read “(1)”.

[FR Doc. Z7-25025 Filed 4-14-08; 8:45 am]

BILLING CODE 1505-01-D